DEPARTMENT OF DEFENSE

Department of the Navy

Record of Decision for Disposal and Reuse of the Marine Corps Air Station El Toro, Orange County and Irvine, CA

AGENCY: Department of the Navy, DoD.

ACTION: Notice of record of decision.

SUMMARY: Under the authority of the Defense Base Closure and Realignment Act of 1990, (DBCRA), the Department of the Navy (DON) announces its decision to dispose of the former Marine Corps Air Station (MCAS) El Toro in a manner consistent with state and local land use plans, and in accordance with lawful disposal authorities, including public sale. In deciding to dispose of MCAS El Toro, the DON has determined that mixed land use is consistent with the Orange County General Plan, as recently amended by the passage of the Orange County Central Park and Nature Preserve Initiative (Measure W) on March 5, 2002, and the City of Irvine General Plan. Mixed land use also will meet the goals of local economic redevelopment and job creation set out in the DBCRA. This Record of Decision (ROD) leaves selection of the particular means to achieve redevelopment to the acquiring entity and the local zoning authorities.

SUPPLEMENTARY INFORMATION: MCAS El Toro was closed in July 1999 pursuant to the DBCRA. The MCAS El Toro property is located within central Orange County. The property is being managed by the DON as an inactive facility pending a decision regarding disposal and reuse. Approximately 424 acres of the MCAS El Toro property are located within the corporate boundaries of the city of Irvine. The remaining 4,314 acres are located within the unincorporated areas of Orange County. The existing airfield contains five runways and their associated parallel and connecting taxiway systems. The existing development on MCAS El Toro is generally clustered around the airfield; there are approximately 500 non-residential buildings, 1,188 family housing units, and 4,380 bachelor-housing units.

The DON goal is to help base closure communities achieve economic recovery through reuse and redevelopment of the assets at closing bases, taking into consideration local market conditions, redevelopment plans prepared by the designated Local Reuse Authority (LRA), and local land use plans. Thus, the DON has adopted a consultative approach with each closure community. As a part of this approach, the base closure community's interests, as reflected in its land use plans and zoning for the area, play a significant role in determining the range of alternatives considered in the environmental analysis for property disposal.

Excluded from this decision are 975-acres of excess property located in the northeast portion of MCAS El Toro. The DON transferred a 905-acre parcel to the Federal Aviation Administration (FAA) in December 2001 for use as an Airport Surveillance Radar facility and wildlife habitat reserve. The DON intends to transfer a 70-acre parcel to the Department of Justice. These transfers of excess property to other federal agencies are independent of the disposal of surplus property addressed in this ROD.

Orange County, as the designated LRA, prepared and adopted a DBCRA redevelopment plan for the MCAS El Toro property. The approved DBCRA redevelopment plan directed development of the property as a commercial airport. The DON prepared an EIS analyzing the impacts of disposal and reuse of the MCAS El Toro property. The FAA, as the agency responsible for public airport development and operation, participated as a joint lead agency in preparation of the Final EIS. The DBCRA requires that the DON treat the LRA's redevelopment plan as part of the proposed federal action for the installation and that the redevelopment plan be given preference. Therefore, from among the several reuse scenarios analyzed during the EIS process, the DON and the FAA identified a commercial airport alternative as the preferred alternative.

On March 5, 2002 the voters of Orange County adopted Measure W, an amendment to the Orange County General Plan. Measure W voided an earlier amendment to the Orange County General Plan that designated the property for aviation use and replaced it with a mixed-use, non-aviation designation that allowed education, park, recreation, cultural, and other public oriented uses.

Passage of Measure W, which limits the use of MCAS El Toro to non-aviation re-use, prohibits the FAA and the DON from being able to consider the preferred alternative identified in the Final EIS. FAA therefore at this time has no further role in the decision making process for the disposal of MCAS El Toro. That function solely rests now with the Department of the Navy.

Alternatives

The DON analyzed the impacts of five disposal/reuse alternatives and a no action alternative. The disposal/reuse alternatives represented a range of reasonably foreseeable uses including commercial aviation and non-aviation uses. Non-aviation uses were considered reasonably foreseeable reuses, notwithstanding the LRA's adoption of a commercial aviation redevelopment plan, because reuse of the MCAS El Toro property was a controversial topic in Orange County.

Aviation alternatives were based upon those developed by Orange County in its public reuse planning process. The three aviation alternatives analyzed in the EIS varied in the type (i.e. passenger or cargo) and level of aircraft operations. Each aviation alternative includes some mix of non-aviation uses such as commercial, light industrial, educational and open space. The Reduced Commercial Airport Alternative was identified in the FEIS as the preferred alternative because it was based upon a publicly adopted amendment to the Orange County General Plan requiring that the MCAS El Toro property be used for a commercial airport and related uses.

Non-aviation alternatives were based upon a mixed land use approach. The Business Park Alternative and the Village Park Alternative projected different conceptual combinations of residential, commercial, light industrial, educational, recreational, and public/community service uses.

The “no action” alternative would leave the property under DON control. Existing agricultural and educational leases would continue until they expired. All other leases would be terminated. The area would be fenced and buildings would be vacated and sealed. Only essential maintenance and security functions would be provided. Environmental cleanup would be completed. Because the no action alternative has less potential for adverse environmental impacts, it is the environmentally preferable alternative. However, the no action alternative would not promote local economic development nor create jobs and, therefore, is inconsistent with the statutory direction contained in the DBCRA.

Significant Environmental Impacts

For each alternative the DON analyzed the direct, indirect, and cumulative impacts of the disposal and reuse of the surplus MCAS El Toro property in the following environmental impact categories: Land use, Socio-economics; Recreation; Aesthetics; Public Services and Utilities; Historic and Archaeological Resources; Biological Resources; Topography, Soils and Geology; Hydrology and Water Quality; Hazardous Wastes and Materials; Public Health and Safety; Traffic and Transportation; Air Quality; and Noise.

This ROD presents a summary of potentially significant adverse impacts associated with the Business Park and Village Park alternatives. Both of these alternatives represent mixed land use redevelopment that is consistent with the phased, mixed land use redevelopment concept approved by Orange County voters when they amended the Orange County General Plan through Measure W. Detailed discussions for each environmental impact category are contained in Chapter 4 of the FEIS. Cumulative impacts are addressed in Chapter 6.

Redevelopment could adversely affect farmland. Under California's Environmental Quality Act, the loss of 660 acres of Prime Farmland is considered significant. However, federal standards for evaluating the loss of farmlands are derived from the Farmland Protection Policy Act (FPPA). The farmland on MCAS El Toro does not have a high enough value to warrant protection under the FPPA, so impacts are not considered significant.

Redevelopment could adversely affect about 1.5 acres of surface water that is considered “waters of the United States” for purposes of the Clean Water Act (CWA). These 1.5 acres would be filled or the water channeled through concrete structures. Significant adverse impacts can be avoided through project design and mitigation measures imposed by the Army Corps of Engineers during the CWA Section 404 permitting process.

Redevelopment could have significant impacts on traffic. Mixed non-aviation uses are projected to generate approximately 300,000 to 340,000 trips per day at build-out. This level of traffic would cause substantial delays at up to 35 intersections and four freeway segments. Significant impacts could be mitigated through development of a transportation demand management program, intersection improvements, and construction of additional freeway lanes on Interstates 5 and 405 in various locations.

Redevelopment could have significant traffic-related noise impacts. An increase in traffic noise levels of as much as 3-4 dB(A) could occur. Because the location of traffic-related noise impacts will vary depending upon the manner in which mixed non-aviation uses are implemented, mitigation measures would have to be identified through site-specific noise studies prepared on detailed development proposals when those proposals are submitted to County or City officials for approval.

Mitigation

Once property is conveyed outside of federal control, land use is solely a function of state and local planning and zoning authorities. The DON cannot impose post conveyance restrictions on land use absent specific statutory authority to do so such as that provided for the imposition of land use controls under CERCLA. As a result, the DON has no authority to require that parties acquiring the former MCAS El Toro property impose the mitigation measures identified in the FEIS or this ROD.

Comments Received on the Final EIS

Several organizations submitted comments on the FEIS. Most of those comments reiterated issues addressed in the response to comments included in the FEIS. A few comments identified substantive environmental issues not raised earlier in the NEPA process. Those comments are addressed below.

One comment alleged that the analysis was inadequate because it did not contain a conformity determination for non-aviation mixed land use. The DON disagrees with that allegation. No conformity analysis for mixed land use redevelopment is required. Conveyance of federal property outside federal control is expressly exempted from the conformity provisions of the Clean Air Act and there is no DON involvement in post conveyance redevelopment that would require conformity analysis.

Several comments alleged that the analysis was inadequate because it failed to address hazardous waste remediation in terms of the mixed land use directed by Measure W. The DON disagrees with those allegations. The analysis in the EIS addressed impacts associated with phased, mixed land use redevelopment such as that directed by measure W. CERCLA remedial actions are addressed through an independent process that examines alternative remedies based upon reasonably foreseeable land uses. State and local governments exercising planning and zoning authority have a prominent role in the development of CERCLA remedies. DON will impose land use controls where necessary to ensure protection of human health and the environment.

Conclusions

In deciding to dispose of the MCAS El Toro property in a manner consistent with state and local land use plans and policies, the statutory goals and objectives of the DBCRA in relation to the redevelopment of MCAS El Toro, as discussed in the FEIS, were carefully considered. The DON reviewed the purpose and need that this proposed disposal and reuse action would serve; the alternative means of achieving the purpose and need; the environmental impacts of these alternatives; the mitigation potentially necessary to preserve and enhance the human, cultural, and natural environment; the general costs and benefits; and the recent amendments to the Orange County General Plan.

The DON also determined that the mixed non-aviation land uses analyzed in the FEIS are similar to those set forth in Measure W. The Business Park and Village Park alternatives are conceptual redevelopment plans. They addressed general categories of use but, because they involved redevelopment over a 20-year period, did not contain specific plans or projects. Projecting which specific plans or projects could be implemented over the period of such mixed-use redevelopment is speculative at best, so analysis of the mixed land use alternatives could be done only at the conceptual level. Measure W is also a conceptual mixed land use plan. It expressly recognized that redevelopment must be accomplished over an extended period of time; that specific uses could change during a phased implementation; and that phased implementation requires flexibility. Consequently, the DON found that the conceptual approach to analysis of phased mixed land use alternatives used in the FEIS adequately addresses the phased mixed land use now required under the Orange County General Plan as a result of the passage of Measure W.

Finally, the DON considered the effect that Measure W has on the aviation reuse plan adopted by Orange County and determined that it was not necessary, under the provisions of the DBCRA and the DoD Base Reuse Implementation Manual, to delay a decision. The FEIS examined a range of disposal/reuse alternatives based upon reasonable assumptions and foreseeable reuses as required by NEPA and the BRIM.

Therefore, on behalf of the DON, we have decided to dispose of the former Marine Corps Air Station (MCAS) El Toro in a manner consistent with state and local land use plans, using the lawful authorities available to the DON for property disposal.

Dated: April 23, 2002.
Duncan Holaday,
Deputy Assistant Secretary of the Navy (Installations and Facilities).

[FR Doc. 02-10380 Filed 4-26-02; 8:45 am]

BILLING CODE 3810-FF-P